DEPARTMENT OF ENERGY

[Project Nos. 2525-051, et al.]

Federal Energy Regulatory Commission

Notice of Application for Amendment of License and Soliciting Comments, Motions To Intervene, and Protests

June 26, 2002.

Take notice that the following application has been filed with the Commission and is available for public inspection:

a. Application Type: Change in Project Boundaries.

b. Project Nos: 2525-051, 2546-068, 2560-047, 2522-074, and 2595-065.

c. Date Filed: June 17, 2002.

d. Applicant: Wisconsin Public Service Corporation (WPSC).

e. Name of Project: Caldron Falls, Sandstone Rapids, Potato Rapids, Johnson Falls, and High Falls.

f. Location: The projects are located on the Peshtigo River, in Marinette and Oconto Counties, Wisconsin. The Caldron Falls Project occupies 640 acres of federal lands, all of which are within the Nicolet National Forest. In addition, a total of about 10 acres of federal lands (consisting of islands in the Peshtigo River) is owned and managed by the U.S. Bureau of Land Management within the boundaries of the High Falls, Sandstone Rapids, and Potato Rapids Projects.

g. Filed Pursuant to: Federal Power Act, 16 U.S.C. 791 (a), 825(r) and 799 and 801.

h. Applicant Contact: Greg Egtvedt, Wisconsin Public Service Corporation, P.O. Box 19002, Green Bay, WI 54307-9002, (920) 433-5713.

i. FERC Contact: Any questions on this notice should be addressed to Mrs. Jean Potvin at (202) 219-0022, or e-mail address: jean.potvin@ferc.gov.

j. Deadline for filing comments and or motions: July 31, 2002.

All documents (original and eight copies) should be filed with: Magalie R. Salas, Secretary, Federal Energy Regulatory Commission, 888 First Street, NE, Washington DC 20426. Please include the project numbers ( P-2525-051, 2546-068, 2560-047, 2522-074, and 2595-065) on any comments or motions filed.

k. Description of Request: WPSC is requesting Commission approval to amend the project licenses to change the project boundaries to remove project lands: (1) That were conveyed to the Wisconsin Department of Natural Resources (WDNR) pursuant to the Commission's December 20, 2001 Order (Phase I); (2) that will be conveyed to the WDNR in the future; and (3) that WPSC intends to use for development purposes. On those lands WPSC intends to remove from the projects for development, it will grant an easement to WDNR for 100-foot shoreline buffer strip that will remain in the projects' boundaries and open to the public for certain recreational activities.

l. Location of the Application: A copy of the application is available for inspection and reproduction at the Commission's Public Reference Room, located at 888 First Street, NE, Room 2A, Washington, DC 20426, or by calling (202) 208-1371. This filing may also be viewed on the web at http://www.ferc.gov using the “RIMS” link, select “Docket#” and follow the instructions (call 202-208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's web site at http://www.ferc.gov under the “e-Filing” link.

Linwood A. Watson, Jr.,
Deputy Secretary.

[FR Doc. 02-16613 Filed 7-1-02; 8:45 am]

BILLING CODE 6717-01-P